DEPARTMENT OF STATE

[Public Notice 8055]

The Review and Amendment of the Designation of Al-Qa'ida in the Arabian Peninsula, aka Al-Qa'ida of Jihad Organization in the Arabian Peninsula, aka Tanzim Qa'idat al-Jihad fi Jazirat al-Arab, aka Al-Qa'ida in Yemen, aka Al-Qa'ida in the South Arabian Peninsula as a Foreign Terrorist Organization Pursuant to Section 219 of the Immigration and Nationality Act

Based upon a review of the Administrative Record assembled in this matter pursuant to Section 219(a)(4)(C) of the Immigration and Nationality Act, as amended (8 U.S.C. 1189(a)(4)(C)) (“INA”), and in consultation with the Attorney General and the Secretary of the Treasury, the Secretary of State concludes that the circumstances that were the basis for the 2004 designation of the aforementioned organization as a foreign terrorist organization have not changed in such a manner as to warrant revocation of the designation and that the national security of the United States does not warrant a revocation of the designation, and that there is a sufficient factual basis to find that al-Qa'ida in the Arabian Peninsula, also known under the aliases listed above, uses or has used an additional alias, namely, Ansar al-Shari'a.

Therefore, the Secretary of State hereby determines that the designation of the aforementioned organization as a foreign terrorist organization, pursuant to Section 219 of the INA (8 U.S.C. 1189), shall be maintained, and in addition, effective upon the date of publication in the Federal Register, the Secretary of State hereby amends the 2010 designation of al-Qa'ida in the Arabian Peninsula as a foreign terrorist organization, pursuant to § 219(b) of the INA (8 U.S.C. 1189(b)), to include the following new alias and other possible transliterations thereof: Ansar al-Shari'a.

Dated: September 17, 2012.
Hillary Rodham Clinton,
Secretary of State.

[FR Doc. 2012-24710 Filed 10-4-12; 8:45 am]

BILLING CODE 4710-10-P